DEPARTMENT OF HEALTH AND HUMAN SERVICES

National Institutes of Health

Center for Scientific Review; Amended Notice of Meeting

Notice is hereby given of a change in the meeting of the Center for Scientific Review Special Emphasis Panel, August 12, 2002, 12 PM to August 12, 2002, 1 PM, NIH, Rockledge 2, Bethesda, MD, 20892 which was published in the Federal Register on August 5, 2002, 67 FR 50682-50683.

The meeting will be held August 13, 2002, from 11:30 AM to 12:30 PM. The location remains the same. The meeting is closed to the public.

Dated: August 7, 2002.
LaVerne Y. Stringfield,
Director, Office of Federal Advisory Committee Policy.

[FR Doc. 02-20551 Filed 8-13-02; 8:45 am]

BILLING CODE 4140-01-M